DEPARTMENT OF ENERGY

Federal Energy Regulatory Commission

Combined Notice of Filings

November 4, 2008.

Take notice that the Commission has received the following Natural Gas Pipeline Rate and Refund Report filings:

Docket Numbers: RP00-157-021.

Applicants: Kern River Gas Transmission Company.

Description: Kern River Gas Transmission Company submits a refund report detailing refunds paid on October 1, 2008, and October 3, 2008, pursuant to the Settlement filed September 30, 2008, in accordance with 18 CFR 154.501(e).

Filed Date: 10/31/2008.

Accession Number: 20081031-5153.

Comment Date: 5 p.m. Eastern Time on Wednesday, November 12, 2008.

Docket Numbers: RP03-36-037.

Applicants: Dauphin Island Gathering Partners.

Description: Dauphin Island Gathering Partners submits Thirty-First Revised Sheet 10 et al. to FERC Gas Tariff, Fifth Revised Volume 1, to be effective 11/1/08.

Filed Date: 10/31/2008.

Accession Number: 20081103-0154.

Comment Date: 5 p.m. Eastern Time on Wednesday, November 12, 2008.

Docket Numbers: RP08-350-001.

Applicants: Southern Star Central Gas Pipeline, Inc.

Description: Southern Star Central Gas Pipeline, Inc. submits Substitute Sixth Revised Sheet 10 et al. to FERC Gas Tariff, Original Volume 1 and 2, to be effective 11/1/08.

Filed Date: 10/31/2008.

Accession Number: 20081103-0155.

Comment Date: 5 p.m. Eastern Time on Wednesday, November 12, 2008.

Docket Numbers: RP08-523-002.

Applicants: Southeast Supply Header, LLC.

Description: Southeast Supply Header, LLC submits Original Sheet 332A to FERC Gas Tariff, Original Volume 1, to be effective 10/1/08.

Filed Date: 10/31/2008.

Accession Number: 20081104-0029.

Comment Date: 5 p.m. Eastern Time on Wednesday, November 12, 2008.

Docket Numbers: RP09-16-001.

Applicants: Cimarron River Pipeline, LLC.

Description: Cimarron River Pipeline, LLC submits First Revised Sheet 20 to FERC Gas Tariff, Original Volume 1, to be effective 11/1/08.

Filed Date: 10/31/2008.

Accession Number: 20081103-0156.

Comment Date: 5 p.m. Eastern Time on Wednesday, November 12, 2008.

Docket Numbers: RP96-200-199.

Applicants: CenterPoint Energy Gas Transmission Company.

Description: Center Point Energy Gas Transmission Company submits a negotiated rate agreement between CEGT and Lacede Energy Resources, Inc.

Filed Date: 10/31/2008.

Accession Number: 20081103-0149.

Comment Date: 5 p.m. Eastern Time on Wednesday, November 12, 2008.

Docket Numbers: RP96-200-200.

Applicants: CenterPoint Energy Gas Transmission Company.

Description: CenterPoint Energy Gas Transmission Company submits two amended agreements with Chesapeake Energy Marketing, Inc.

Filed Date: 10/31/2008.

Accession Number: 20081104-0028.

Comment Date: 5 p.m. Eastern Time on Wednesday, November 12, 2008.

Docket Numbers: RP96-272-084.

Applicants: Northern Natural Gas Company.

Description: Northern Natural Gas Company submits 53rd Revised Sheet 66A et al. to FERC Gas Tariff, Fifth Revised Volume 1, effective 11/1/08.

Filed Date: 10/31/2008.

Accession Number: 20081103-0150.

Comment Date: 5 p.m. Eastern Time on Wednesday, November 12, 2008.

Docket Numbers: RP98-18-037.

Applicants: Iroquois Gas Transmission System, L.P.

Description: Iroquois Gas Transmission System, LP submits First Revised Sheet 6M to FERC Gas Tariff, First Revised Volume 1, to be effective 11/1/08.

Filed Date: 10/31/2008.

Accession Number: 20081103-0151.

Comment Date: 5 p.m. Eastern Time on Wednesday, November 12, 2008.

Docket Numbers: RP99-480-023.

Applicants: Texas Eastern Transmission LP.

Description: Texas Eastern Transmission, LP submits Sub Original Sheet 120 to FERC Gas Tariff, Seventh Revised Volume 1, to be effective 11/1/08.

Filed Date: 10/31/2008.

Accession Number: 20081103-0152.

Comment Date: 5 p.m. Eastern Time on Wednesday, November 12, 2008.

Docket Numbers: RP99-518-108.

Applicants: Gas Transmission Northwest Corporation.

Description: Gas Transmission Northwest Corporation submits Forty-Fifth Revised Sheet 15 et al. to FERC Gas Tariff, Third Revised Volume 1-A, to be effective 11/1/08.

Filed Date: 10/31/2008.

Accession Number: 20081103-0153.

Comment Date: 5 p.m. Eastern Time on Wednesday, November 12, 2008.

Docket Numbers: RP09-40-000.

Applicants: CenterPoint Energy Gas Transmission Company.

Description: CenterPoint Energy Gas Transmission Company submits Second Revised Sheet 264A et al. to FERC Gas Tariff, Sixth Revised Volume 1, to be effective 12/1/08.

Filed Date: 10/31/2008.

Accession Number: 20081103-0157.

Comment Date: 5 p.m. Eastern Time on Wednesday, November 12, 2008.

Docket Numbers: RP09-41-000.

Applicants: Dominion Cove Point LNG, LP.

Description: Dominion Cove Point LNG, LP submits Eleventh Revised Sheet 10 et al. to FERC Gas Tariff Original Volume 1.

Filed Date: 10/31/2008.

Accession Number: 20081103-0144.

Comment Date: 5 p.m. Eastern Time on Wednesday, November 12, 2008.

Docket Numbers: RP09-42-000.

Applicants: Hardy Storage Company, LLC.

Description: Hardy Storage Company submits First Revised Sheet 13 to FERC Gas Tariff Original Volume 1.

Filed Date: 10/31/2008.

Accession Number: 20081103-0143.

Comment Date: 5 p.m. Eastern Time on Wednesday, November 12, 2008.

Docket Numbers: RP09-43-000.

Applicants: Guardian Pipeline, L.L.C.

Description: Guardian Pipeline, LLC submits Sixth Revised Sheet 100 et al. to FERC Gas Tariff Original Volume 1.

Filed Date: 10/31/2008.

Accession Number: 20081103-0142.

Comment Date: 5 p.m. Eastern Time on Wednesday, November 12, 2008.

Docket Numbers: RP09-44-000.

Applicants: National Fuel Gas Supply Corporation.

Description: National Fuel Gas Supply Corporation submits 121st Revised Sheet 9 to FERC Gas Tariff Fourth Revised Volume 1.

Filed Date: 10/31/2008.

Accession Number: 20081103-0145.

Comment Date: 5 p.m. Eastern Time on Wednesday, November 12, 2008.

Docket Numbers: RP09-45-000.

Applicants: Trunkline Gas Company, LLC.

Description: Trunkline Gas Company, LLC submits Annual Interruptible Storage Revenue Credit Surcharge Adjustment re FERC Gas Tariff, Third Revised Volume 1.

Filed Date: 10/31/2008.

Accession Number: 20081103-0146.

Comment Date: 5 p.m. Eastern Time on Wednesday, November 12, 2008.

Docket Numbers: RP09-46-000.

Applicants: Southern LNG Inc.

Description: Southern LNG Inc. submits Twenty-Second Revised Sheet 5 to FERC Gas Tariff Original Volume 1.

Filed Date: 10/31/2008.

Accession Number: 20081103-0147.

Comment Date: 5 p.m. Eastern Time on Wednesday, November 12, 2008.

Docket Numbers: RP09-47-000.

Applicants: Wyoming Interstate Company, Ltd.

Description: Wyoming Interstate Company, Ltd submits Twenty-Third Revised Sheet 4C et al. to FERC Gas Tariff Second Revised Volume 2.

Filed Date: 10/31/2008.

Accession Number: 20081103-0148.

Comment Date: 5 p.m. Eastern Time on Wednesday, November 12, 2008.

Docket Numbers: RP09-48-000.

Applicants: Algonquin Gas Transmission Company.

Description: Algonquin Gas Transmission, LLC submits Third Revised Sheet 40 to its FERC Gas Tariff, Fifth Revised Volume 1, to be effective 12/1/08.

Filed Date: 10/31/2008.

Accession Number: 20081104-0030.

Comment Date: 5 p.m. Eastern Time on Wednesday, November 12, 2008.

Docket Numbers: CP07-208-003.

Applicants: Rockies Express Pipeline LLC.

Description: Rockies Express Pipeline LLC submits Abbreviated application for limited amendment of the certificate of public convenience and necessity issued May 30, 2008.

Filed Date: 10/31/2008.

Accession Number: 20081031-5074.

Comment Date: 5 p.m. Eastern Time on Friday, November 14, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E8-26615 Filed 11-6-08; 8:45 am]

BILLING CODE 6717-01-P